DEPARTMENT OF STATE

[Public Notice 6108]

Notice of Meeting of the Advisory Committee on International Law

A meeting of the Advisory Committee on International Law will take place on Friday, March 28, 2008, from 10 a.m. to approximately 4 p.m., in Room 1107 of the United States Department of State, 2201 C Street, NW., Washington, DC. The meeting will be chaired by the Legal Adviser of the Department of State, John B. Bellinger, III, and will be open to the public up to the capacity of the meeting room. It is anticipated that the agenda of the meeting will cover a range of current international legal topics, including issues in treaty practice; the U.S. and the International Law Commission (ILC); United Nations targeted sanctions; and the proposed executive agreement with Iraq. Members of the public will have an opportunity to participate in the discussion.

Entry to the building is controlled and will be facilitated by advance arrangements. Members of the public who wish to attend the session should, by Wednesday, March 26, 2008, notify the Office of the Assistant Legal Adviser for Claims and Investment Disputes (telephone: 202-776-8436) of their name, date of birth; citizenship (country); ID number, i.e., U.S. government ID (agency), U.S. military ID (branch), passport (country) or driver's license (state); professional affiliation, address and telephone number in order to arrange admittance. This includes admittance for government employees as well as others. All attendees must use the “C” Street entrance. One of the following valid IDs will be required for admittance: Any U.S. driver's license with photo, a passport, or a U.S. government agency ID. Because an escort is required at all times, attendees should expect to remain in the meeting for the entire morning or afternoon session.

Dated: March 3, 2008.
Sharla Draemel,
Attorney-Adviser, Office of Claims and Investment Disputes, Office of the Legal Adviser, Executive Director, Advisory Committee on International Law, Department of State.

[FR Doc. E8-4525 Filed 3-6-08; 8:45 am]

BILLING CODE 4710-08-P